DEPARTMENT OF COMMERCE

International Trade Administration

[Application No. 92-12A001]

Export Trade Certificate of Review

ACTION: Notice of Issuance of an Amended Export Trade Certificate of Review to Aerospace Industries Association of America, Inc., Application No. 92-12A001.

SUMMARY: The U.S. Department of Commerce issued an amended Export Trade Certificate of Review to Aerospace Industries Association of America, Inc. (“AIA”) on February 18, 2014.

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. 4001-21) authorizes the Secretary of Commerce to issue Export Trade Certificates of Review. The regulations implementing Title III are found at 15 CFR Part 325 (2014). The U.S. Department of Commerce, International Trade Administration, Office of Trade and Economic Analysis (“OTEA”) is issuing this notice pursuant to 15 CFR 325.6(b), which requires the Secretary of Commerce to publish a summary of the issuance in the Federal Register. Under Section 305(a) of the Export Trading Company Act (15 U.S.C. 4012(b)(1)) and 15 CFR 325.11(a), any person aggrieved by the Secretary's determination may, within 30 days of the date of this notice, bring an action in any appropriate district court of the United States to set aside the determination on the ground that the determination is erroneous.

Description of Certified Conduct

AIA's Export Trade Certificate of Review has been amended to:

1. Add the following companies as new Members of the Certificate within the meaning of section 325.2(l) of the Regulations (15 CFR 325.2(l)): Aero Mechanical Industries (Rio Rancho, NM); Avascent (Washington, DC); Ball Aerospace & Technologies Corp. (Boulder, CO); Castle Metals (Oak Brook, IL); Crane Aerospace & Electronics (Lynnwood, WA); EPS Corporation (Tinton Falls, NJ); Oxford Performance Materials (South Windsor, CT), and The Padina Group, Inc. (Lancaster, PA).

2. Delete the following companies as Members of AIA's Certificate: AeroVironment, Inc.; Broad Reach Engineering Company; CIRCOR International, Inc.; Gentex Corporation; Goodrich Corporation; Omega Air, Inc.; OSI Systems, Inc.; the SI Organization, Inc.; Valent Aerostructures, LLC; W.L. Gore & Associates, Inc.; and Xerox Corporation.

3. Change in name or address for the following Members: Acutec Precision Manufacturing, Inc. (Saegertown, PA) is Acutec Precision Machining, Inc.; Cubic Defense Applications, Inc. (San Diego, CA) has been replaced by Cubic Corporation, Inc. (San Diego, CA); Galactic Ventures, LLC (Las Cruces, NM) has changed its name to Virgin Galactic, LLC.; Groen Brothers Aviation, Inc. (Salt Lake City, UT) has changed its name to Groen Brothers Aviation Global, Inc.; ITT Exelis (McLean, VA) has changed its name to Exelis, Inc.; NYLOCK Corporation (Macomb, MI) has changed its name to NYLOCK, LLC; PARTsolutions, LLC (Milford, OH) has changed its name to CADENAS PARTsolutions, LLC (Cincinnati, OH); and SAP Public Services, Inc. (Washington, DC) has changed its name to SAP America, Inc. (Newtown Square, PA).

AIA's amendment of its Export Trade Certificate of Review results in the following membership list:

1. 3M Company, St. Paul, MN

2. AAR Manufacturing, Inc., Wood Dale, IL

3. Accenture, Chicago, IL

4. Acutec Precision Machining, Inc., Saegertown, PA

5. Aero-Mark, LLC, Ontario CA

6. Aero Mechanical Industries, Rio Rancho, NM

7. Aerojet, Rancho Cordova, CA

8. AGC Aerospace Defense, Oklahoma City, OK

9. Aireon LLC, McLean, VA

10. Alcoa Defense, Crystal City, VA

11. Align Aerospace, LCC, Chatsworth, CA

12. Allfast Fastening Systems, City of Industry, CA

13. Alliant Techsystems, Inc. (ATK), Minneapolis, MN

14. AlliedBarton Security Services, LLC, Conshohocken, PA

15. Allied Telesis, Inc., Bothell, WA

16. American Pacific Corporation, Las Vegas, NV

17. AMT II Corporation, New York, NY

18. Analytical Graphics, Inc., Exton, PA

19. ARINC Aerospace, Annapolis, MD

20. Aurora Flight Sciences Corporation, Manassas, VA

21. AUSCO, Inc., Port Washington, NY

22. Avascent, Washington, DC

23. B&E Group, LLC, Southwick, MA

24. B/E Aerospace, Inc., Wellington, FL

25. BAE Systems, Inc., Rockville, MD

26. Ball Aerospace Technologies Corp., Boulder, CO

27. Barnes Group Inc., Bristol, CT

28. Belcan Corporation, Cincinnati, OH

29. Benchmark Electronics, Inc., Angleton, TX

30. Boeing Company, Chicago, IL

31. Bombardier, Montreal, Canada

32. BRS Aerospace, St. Paul, MN

33. CADENAS PARTsolutions, LLC, Cincinnati, OH

34. CAE USA Inc., Tampa, FL

35. Camcode Division of Horizons, Inc., Cleveland, OH

36. Castle Metals, Oak Brook, IL

37. Celestica Corporation, Toronto, Canada

38. CERTON Software, Inc., Melbourne, FL

39. Chromalloy, San Antonio, TX

40. Click Bond, Inc., Carson City, NV

41. Cobham, Arlington, VA

42. Colt Defense, LLC, West Hartford, CT

43. Computer Sciences Corporation, Falls Church, VA

44. CPI Aerostructures, Inc., Edgewood, NY

45. Crane Aerospace Electronics, Lynnwood, WA

46. Cubic Corporation, Inc., San Diego, CA

47. Curtiss-Wright Corporation, Parsippany, NJ

48. Deloitte Consulting LLP, New York, NY

49. Deltek, Inc., Herndon, VA

50. Denison Industries, Inc., Denison, TX

51. DitigalGlobe, Inc., Longmont, CO

52. Ducommun Incorporated, Carson, CA

53. Dupont Company, New Castle, DE

54. Eaton Corporation, Cleveland, OH

55. Elbit Systems of America, LLC, Fort Worth, TX,

56. Embraer Aircraft Holding, Inc., Fort Lauderdale, FL

57. ENSCO, Inc., Falls Church, VA

58. EPS Corporation; Tinton Falls, NJ

59. Erickson Air-Crane Inc., Portland, OR

60. Ernst Young LLP, New York, NY

61. ESI North America, Bloomfield Hills, MI

62. ESIS, Inc., San Diego, CA

63. Esterline Technologies, Bellevue, WA

64. Exelis, Inc., McLean, VA

65. Exostar, LLC, Herndon, VA

66. Flextronics International USA, Inc., San Jose, CA

67. Flight Safety International, Inc., Flushing, NY

68. Fluor Corporation, Irving, TX

69. FTG Circuits, Inc., Chatsworth, CA

70. Galaxy Technologies, Winfield, KS

71. General Atomics Aeronautical Systems, Inc., Poway, CA

72. General Dynamics Corporation, Falls Church, VA

73. General Electric Aviation, Cincinnati, OH

74. GKN Aerospace North America, Irving, TX

75. Groen Brothers Aviation Global, Inc., Salt Lake City, UT

76. Guardsmark, LLC, New York, NY

77. Harris Corporation, Melbourne, FL

78. HCL America Inc., Sunnyvale, CA

79. HEICO Corporation, Hollywood, FL

80. Hexcel Corporation, Stamford, CT

81. Hi-Shear Technology Corporation, Torrance, CA

82. HITCO Carbon Composites, Inc., Gardena, CA

83. Honeywell Aerospace, Phoenix, AZ

84. HP Enterprise Services—Aerospace, Palo Alto, CA

85. Huntington Ingalls Industries, Inc., Newport News, VA

86. Hydra Electric Company, Burbank, CA

87. IBM Corporation, Armonk, NY

88. IEC Electronics Corporation, Newark, NJ

89. Infotech Enterprises America Inc., East Hartford, CT

90. Jabil Defense & Aerospace Services LLC, St. Petersburg, FL

91. Kaman Aerospace Corporation, Bloomfield, CT

92. Kemet Electronics Corporations, Simpsonville, SC

93. KPMG LLP, New York, NY

94. L-3 Communications Corporation, New York, NY

95. LAI International, Inc., Scottsdale, AZ

96. LMI Aerospace, Inc., St. Charles, MO

97. Lockheed Martin Corporation, Bethesda, MD

98. Lord Corporation, Cary, NC

99. Marotta Controls, Inc., Montville, NJ

100. Meggitt-USA, Inc., Simi, CA

101. Micro-Coax, Inc., Pottstown, PA

102. Microsemi Corporation, Aliso Viejo, CA

103. MOOG Inc., East Aurora, NY

104. Natel Engineering Company, Inc., Chatsworth, CA

105. National Technical Systems, Inc., Calabasas, CA

106. NobleTek, Wooster, OH

107. The NORDAM Group, Inc., Tulsa, OK

108. Northrop Grumman Corporation, Los Angeles, CA

109. NYLOCK, LLC, Macomb, MI

110. O'Neil & Associates Inc., Miamisburg, OH

111. Ontic Engineering and Manufacturing, Inc., Chatsworth, CA

112. Oracle USA, Inc., Redwood Shores, CA

113. Oxford Performance Materials, South Windsor, CT

114. Pacifica Engineering, Inc., Mukiliteo, WA

115. The Padina Group, Inc.; Lancaster, PA

116. Pall Aeropower Corporation, New Port Richey, FL

117. Parametric Technology Corporation, Needham, MA

118. Parker Aerospace, Irvine, CA

119. Pinkerton Government Services, Inc., Springfield, VA

120. Plexus Corporation, Neenah, WI

121. PPG Aerospace-Sierracin Corporation, Sylmar, CA

122. PWC Aerospace & Defense Advisory Services, McLean, VA

123. RAF Tabtronics LLC, Deland, FL

124. Raytheon Company, Waltham, MA

125. Realization Technologies Inc., San Jose, CA

126. Rhinestahl Corporation, Mason, OH

127. Rix Industries, Benicia, CA

128. Rockwell Collins, Inc., Cedar Rapids, IA

129. Rolls-Royce North America, Inc., Reston, VA

130. RTI International Metals, Inc., Pittsburgh, PA

131. Satair USA Inc., Atlanta, GA

132. SAP America, Inc., Newtown Square, PA

133. SCB Training Inc., Santa Fe Springs, CA

134. Science Applications International Corporation, McLean, VA

135. Seal Science, Inc., Irvine, CA

136. Siemens PLM Software, Plano, TX

137. Sierra Nevada Corporation, Littleton, CO

138. SIFCO Industries, Inc., Cleveland, OH

139. Sila Solutions Group, Tukwila, WA

140. SITA, Atlanta, GA

141. Space Exploration Technologies Corporation, Hawthorne, CA

142. Sparton Corporation, Schaumburg, IL

143. Spirit AeroSystems, Inc., Wichita, KS

144. SRA International, Inc., Fairfax, VA

145. TASC, Inc., Chantilly, VA

146. Tech Manufacturing, LLC, Wright City, MO

147. Textron Inc., Providence, RI

148. Therm, Incorporated, Ithaca, NY

149. Timken Aerospace Transmissions, LLC, Manchester, CT

150. Triumph Group Inc., Wayne, PA

151. United Technologies Corporation, Hartford, CT

152. Virgin Galactic, LLC, Las Cruces, NM

153. Wesco Aircraft Hardware Corporation, Valencia, CA

154. Woodward, Inc., Fort Collins, CO

The effective date of the amendment is November 21, 2013, the date on which AIA's application to amend was deemed submitted. A copy of the amended certificate will be kept in the International Trade Administration's Freedom of Information Records Inspection Facility, Room 4001, U.S. Department of Commerce, 14th Street and Constitution Avenue NW., Washington, DC 20230.

Dated: February 24, 2014.
Joseph Flynn,
Director, Office of Trade and Economic Analysis, International Trade Administration, (202) 482-5131, etca@trade.gov.

[FR Doc. 2014-04720 Filed 2-28-14; 8:45 am]

BILLING CODE 3510-DR-P